DEPARTMENT OF TRANSPORTATION

Federal Railroad Administration

Notice of Safety Advisory 2005-02

AGENCY: Federal Railroad Administration (FRA), DOT.

ACTION: Notice of safety advisory.

SUMMARY: The FRA is issuing Safety Advisory 2005-02, which provides information on the potential catastrophic failure of locomotive main reservoir tanks manufactured by R&R Metal Fabricators, Incorporated, and installed on General Electric Transportation System (GETS) locomotives. The GETS has informed FRA that a total of 5,826 suspect main reservoir tanks were manufactured between 1988 and 1995. To date, four of these main reservoir tanks have failed catastrophically while in service, and additional tanks have been removed for leaking through the welded seams.

FOR FURTHER INFORMATION CONTACT: George Scerbo, Railroad Safety Specialist, Motive Power and Equipment Division (RRS-14), FRA Office of Safety Assurance and Compliance, 1120 Vermont Avenue, NW., Washington, DC 20590, telephone: (202) 493-6249 or Darrell Tardiff, Staff Attorney, FRA Office of Chief Counsel, 1120 Vermont Avenue, NW., Washington, DC 20590, telephone: (202) 493-6037.

SUPPLEMENTARY INFORMATION: In January of 2005, FRA became aware of concerns being raised by GETS regarding locomotives with main reservoirs manufactured by R&R Metal Fabricators, Incorporated (R&R). The involved main reservoirs were manufactured between 1988 and 1995. R&R provided 5,826 main reservoirs that were manufactured during this period to GETS. At the time of GETS' notification, four of the suspect reservoirs had ruptured while in service, and the ruptures resulted in rapid splitting and deformation of the tank along the longitudinal weld seam. None of the four failed reservoirs has resulted in any injuries. The GETS has informed FRA that a hazard risk assessment process was utilized and it was determined that corrective action is required as soon as practical (i.e. within 120 days).

On January 18, 2005, GETS provided FRA a list of approximately twenty-seven hundred locomotives (2,700) that have likely been equipped with the suspect main reservoirs. Additional main reservoirs may have been mounted onto GETS locomotives through maintenance and repair. No other manufacturer's locomotives have been equipped with the suspect main reservoir, and any attempt to do so would require major modifications to the mounting system. All suspect main reservoirs can be identified by a name plate attached to the skin of the tank.

The GETS has informed FRA that it has contacted the affected railroads and has provided them each a list of locomotive road numbers and a gauge to determine if the reservoir is geometrically offset (out of round) and seams misaligned, which may result in high bending stresses that can lead to weld failure. The GETS also published a Field Maintenance Instruction number 24-15309 to assist the railroads in performing the inspections, and provided replacement reservoirs for those failing to pass the gauge inspection. Locomotives that have had the main reservoir tanks inspected will be identified as follows: a blue dot next to the reservoir tank badge plate indicates the tank has passed the test, a red X indicates that the tank has failed and must be replaced. The Association of American Railroads is aware of this safety issue and, in conjunction with its member railroads, is planning to issue an industry-wide “Early Warning” letter in the near future.

Recommended Action: In recognition of the need to assure safety, FRA recommends that railroads operating and owning GETS locomotives inspect the main reservoir tanks of such locomotives in service and any main reservoirs in inventory to determine if they were manufactured by R&R Metal Fabricators, Incorporated, between 1988 and 1995. The FRA further recommends that the railroads adhere to GETS' Field Maintenance Instruction number 24-15309 when conducting its inspection of any identified main reservoir tank. If a railroad does not have GETS' field maintenance instruction or the required gauging device, it should contact Mr. Len Varan, GETS Product Manager, at (814) 875-2769.

The FRA may modify this Safety Advisory 2005-02, issue additional safety advisories, or take other appropriate action necessary to ensure the highest level of safety on the nation's railroads.

Issued in Washington, DC on April 15, 2005.
Daniel C. Smith,
Associate Administrator for Safety.

[FR Doc. 05-7943 Filed 4-19-05; 8:45 am]

BILLING CODE 4910-06-P